DEPARTMENT OF ENERGY

Federal Energy Regulatory Commission

[Docket No. RP05-329-000]

Enbridge Pipelines (AlaTenn) L.L.C.; Notice of Proposed Changes in FERC Gas Tariff

May 10, 2005.

Take notice that on May 5, 2005, Enbridge Pipelines (AlaTenn) L.L.C. (AlaTenn) tendered for filing as part of its FERC Gas Tariff, Fourth Revised Volume No. 1, the following tariff sheets, to become effective May 6, 2005:

Second Revised Sheet No. 117

Original Sheet No. 117A

Original Sheet No. 117B

Third Revised Sheet No. 118

First Revised Sheet No. 303

First Revised Sheet No. 309

Original Sheet No. 310A

Original Sheet No. 310B

Original Sheet No. 310C

Original Sheet No. 310D

First Revised Sheet No. 314

First Revised Sheet No. 320

Original Sheet No. 321A

Original Sheet No. 321B

Original Sheet No. 321C

Original Sheet No. 321D

First Revised Sheet No. 323

Original Sheet No. 328A

Original Sheet No. 328B

First Revised Sheet No. 332

First Revised Sheet No. 337

Original Sheet No. 337A

Original Sheet No. 337B

Original Sheet No. 337C

Original Sheet No. 337D

AlaTenn states that it is filing these tariff sheets to amend its general terms and conditions to provide for specific types of discounts in its tariff, consistent with Commission policy.

AlaTenn states that copies of its filing have been mailed to all affected customers of AlaTenn and interested State commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2454 Filed 5-16-05; 8:45 am]

BILLING CODE 6717-01-P